DEPARTMENT OF ENERGY

Federal Energy Regulatory Commission

Notice Providing Agenda for Technical Conference on RTO/ISO Responsiveness

January 27, 2010.

California Independent System Operator Corporation | Docket No. ER09-1048-000.
Midwest Independent Transmission System Operator, Inc | Docket No. ER09-1049-000.
Southwest Power Pool, Inc | Docket Nos. ER09-1050-000, ER09-1192-000.
ISO New England, Inc. and New England Power Pool | Docket No. ER09-1051-000.
PJM Interconnection, LLC | Docket No. ER09-1063-000.
New York Independent System Operator, Inc | Docket No. ER09-1142-000.

On November 13, 2009, the Commission issued a notice announcing that the Commission staff would hold a technical conference in the near future to address issues raised in the above-referenced Order No. 719 compliance proceedings.¹ The notice indicated that the date, time, and agenda for the conference would be announced in a subsequent notice. On January 8, 2010, the Commission issued a notice providing an agenda for the conference. The notice indicated that the panelists were subject to change. Attached is an up-dated agenda with the panelists as of the date of this notice.

¹ Wholesale Competition in Regions with Organized Electric Market, Order No. 719, 73 FR 64,100 (Oct. 28, 2008), FERC Stats & Regs. ¶ 31,281 (2008); order onreh'g, 74 FR 37,772 (July 29, 2009), 128 FERC ¶ 61,059 (2009) (Order No. 719-A).

The staff technical conference will be held on Thursday, February 4, 2010, from 12:30 p.m. to 4:30 p.m. (EST) in the Commission Meeting Room at the Commission's Washington, D. headquarters, 888 First Street, NE.

This conference will be webcast. All interested parties are invited, and there is no registration fee to attend.

FERC conferences are accessible under section 508 of the Rehabilitation Act of 1973. For accessibility accommodations please send an e-mail to accessibility@ferc.gov or call toll free (866) 208-3372 (voice) or (202) 502-8659 (TTY), or send a fax to (202) 208-2106 with the required accommodations.

Questions about the technical conference may be directed to Kurt Longo at kurt.longo@ferc.gov, (202) 502-8048.

Kimberly D. Bose,
Secretary.

Agenda—Technical Conference on RTO/ISO Responsiveness

February 4, 2010

12:30 Panel 1—Stakeholder Process

Bill Fields, Maryland Office of People's Counsel

Paul Williams, Portland Cement Association (Industrial Consumers)

John Anderson, Electric Consumers Resource Council

Patrick E. McCullar, Delaware Municipal Electric Corporation, on behalf of American Public Power Association

Tamara Linde, Public Service Electric & Gas

Don Fuller, California Independent System Operator Corporation

Stephen Kozey, Midwest Independent Transmission System Operator, Inc.

Stacy Duckett, Southwest Power Pool, Inc.

Ray Hepper, ISO New England, Inc.

Andrew Ott, PJM Interconnection, LLC

Robert Fernandez, New York Independent System Operator, Inc.

2:15 Break

2:30 Panel 2—Board Process and other Governance Issues

Janine Migden-Ostrander, Office of the Ohio Consumers' Counsel

Randy Rismiller, Illinois Commerce Commission

Lisa Fink, Maine Public Utilities Commission

Jed Nosal, Assistant Attorney General for the State of Massachusetts

Tamara Linde, Public Service Electric & Gas

Don Fuller, California Independent System Operator Corporation

Stephen Kozey, Midwest Independent Transmission System Operator, Inc.

Stacy Duckett, Southwest Power Pool, Inc.

Ray Hepper, ISO New England, Inc.

Vincent Duane, PJM Interconnection, LLC

Robert Fernandez, New York Independent System Operator, Inc.

4:15 Closing Remarks

* Panelists subject to change.

[FR Doc. 2010-2265 Filed 2-3-10; 8:45 am]

BILLING CODE 6717-01-P